DEPARTMENT OF COMMERCE

National Oceanic and Atmospheric Administration

RIN 0648-XG280

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Mackerel-Squid-Butterfish (MSB) Monitoring Committee will meet via webinar to develop recommendations for future MSB specifications.

DATES: The meeting will be held Monday, June 25, 2018 at 9 a.m. and end by noon.

ADDRESSES: The meeting will be held via webinar with a telephone-only connection option: http://mafmc.adobeconnect.com/moncom2018plusfmat/.

Council address: Mid-Atlantic Fishery Management Council, 800 N. State St. Suite 201, Dover, DE 19901; telephone: (302) 674-2331.

FOR FURTHER INFORMATION CONTACT: Christopher M. Moore, Ph.D. Executive Director, Mid-Atlantic Fishery Management Council; telephone: (302) 526-5255. The Council's website, www.mafmc.org will also have details on webinar access and any background materials.

SUPPLEMENTARY INFORMATION: The Council's MSB Monitoring Committee will develop recommendations for future MSB specifications. The MSB Monitoring Committee will meet jointly with the Fishery Management Action Team (FMAT), which is developing analyses for the Council's Atlantic mackerel rebuilding framework to set 2019-2021 Atlantic mackerel specifications. The Council will review previously-set 2019 longfin squid, Illex squid, and butterfish specifications and take final action on the Atlantic mackerel rebuilding framework at its August 2018 Council Meeting (http://www.mafmc.org/meetings/).

Special Accommodations

This meeting is physically accessible to people with disabilities. Requests for sign language interpretation or other auxiliary aid should be directed to M. Jan Saunders, (302) 526-5251, at least 5 days prior to the meeting date.

Dated: June 4, 2018.
Tracey L. Thompson,
Acting Deputy Director, Office of Sustainable Fisheries, National Marine Fisheries Service.

[FR Doc. 2018-12305 Filed 6-7-18; 8:45 am]

BILLING CODE 3510-22-P